ENVIRONMENTAL PROTECTION AGENCY

[FRL-9934-02-Region 6]

Draft National Pollutant Discharge Elimination System (NPDES) General Permit for Small Municipal Separate Storm Sewer Systems in New Mexico (NMR040000)

AGENCY: Environmental Protection Agency (EPA).

ACTION: Notice of extension of public comment period and rescheduling of public meetings.

SUMMARY: On July 30, 2015, the Environmental Protection Agency (EPA) Region 6 published a request for comments on a draft National Pollutant Discharge Elimination System (NPDES) general permit for storm water discharges from small municipal separate storm sewer systems (MS4s) located within the State of New Mexico except MS4s located in Indian lands, Los Alamos County, the Middle Rio Grande Sub-Watersheds described in Appendix A of the NPDES permit No. NMR04A000, or within the area of another MS4 permit. This proposed permit offers discharge authorization to regulated small MS4s within the boundaries of the Bureau of the Census-designated 2000 and 2010 Farmington, Santa Fe, Los Lunas, Las Cruces and El Paso Urbanized Areas and any other small MS4s in the State of New Mexico designated by the Director as needing a MS4 permit, other than those primarily located in Los Alamos. This permit is intended to replace the expired general permit NMR040000. In the July 30, 2015, Federal Register notice, the Director also provided notice of public meetings to be held regarding the proposed general permit reissuance. EPA Region 6 is announcing today an extension of the public comment period from October 28, 2015, to December 18, 2015, and rescheduling of public meetings from the week of September 14, 2015, to the week of November 16, 2015.

DATES: Written comments must now be submitted in writing to EPA on or before December 18, 2015.

New Locations and Dates for Public Meetings: EPA is rescheduling the five informational public meetings announced in the July 30, 2015, Federal Register notice. The new locations and dates for the five informal public meetings are listed below. The public meetings will include a presentation on the proposed general permit and a question and answer session. Written, but not oral, comments for the official permit record will be accepted at the public meetings. Public notice of the extension of the public comment period and rescheduling of the public meetings will also be provided in The Sun News, Albuquerque Journal, The Santa Fe New Mexican, and The Farmington Daily Times prior to or concurrent with today's notice.

El Paso Urbanized Area Meeting:

Date and Time: Monday November 16, 2015 from 1:00 p.m.-2:30 p.m. MST

Location: New Mexico State University

Dona Ana Community College-Sunland Park Campus

Room 102—Auditorium

3365 McNutt Rd

Sunland Park, NM 88063

Las Cruces Urbanized Area Meeting:

Date and Time: Monday November 16, 2015 from 6:00 p.m.-7:30 p.m. MST

Location: New Mexico State University

Dona Ana Community College-East Mesa Campus

Student Resource Building

2800 N. Sonoma Ranch Blvd.

Las Cruces, NM 88003

Los Lunas Urbanized Area Meeting:

Date and Time: Tuesday November 17, 2015 from 6:00 p.m.-7:30 p.m. MST

Location: Holiday Inn Express Belen

2110 Camino del Llano

Belen, NM 87002

Santa Fe Urbanized Area Meeting:

Date and Time: Wednesday November 18, 2015 from 6:00 p.m.-7:30 p.m. MST

Location: The Lodge at Santa Fe

750 N. St. Francis Dr.

Santa Fe, NM 87501

Farmington Urbanized Area Meeting:

Date and Time: Thursday November 19, 2015 at 6:00 p.m.-7:30 p.m. MST

Location: Courtyard Farmington

560 Scott Ave

Farmington, NM 87401

Proposed Documents: The proposed general permit and fact sheet which sets forth principal facts and the significant factual, legal, and policy questions considered in the development of the proposed general permit, may be obtained via the Internet at http://epa.gov/region6/water/npdes/sw/sms4/index.htm. A backup copy is also available at the New Mexico Environment Department Web site at https://www.env.nm.gov/swqb/WQA/Notice/. To obtain hard copies of these documents or any other information in the administrative record, please contact Ms. Evelyn Rosborough using the contact information provided below.

How do I comment on this proposal?

Comment Submittals: Submit your comments, by one of the following methods:

• Email: Rosborough.Evelyn@epa.gov.

• Mail: Ms. Evelyn Rosborough, U.S. Environmental Protection Agency, Region 6, 1445 Ross Avenue, Dallas, Texas 75202-2733.

Administrative Record: The proposed general permit and other related documents in the administrative record are on file and may be inspected any time between 8:00 a.m. and 4:30 p.m., Monday through Friday, excluding legal holidays, at the addresses listed for submission of comments. It is recommended that you write or call to the contact above for an appointment, so the record(s) will be available at your convenience.

FOR FURTHER INFORMATION CONTACT: Ms. Evelyn Rosborough, U.S. Environmental Protection Agency, Region 6, 1445 Ross Avenue, Dallas, Texas 75202-2733. Telephone: (214) 655-7515. Email address: Rosborough.Evelyn@epa.gov.

Dated: September 2, 2015.
William K. Honker,
Director, Water Quality Protection Division, EPA Region 6.

[FR Doc. 2015-23175 Filed 9-15-15; 8:45 am]

BILLING CODE 6560-50-P